DEPARTMENT OF THE INTERIOR

Fish and Wildlife Service

Endangered Species Recovery Permits

AGENCY: Fish and Wildlife Service, Interior.

ACTION: Notice of availability and receipt of applications.

SUMMARY: We announce the receipt of applications to conduct certain activities pertaining to enhancement of survival of endangered species.

DATES: Written comments on these permit applications must be received by September 13, 2006.

ADDRESSES: Written data or comments should be submitted to the Assistant Regional Director, Fisheries-Ecological Services, U.S. Fish and Wildlife Service, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 20 days of the date of publication of this notice to Kris Olsen, by mail or by telephone at 303-236-4256. All comments received from individuals become part of the official public record.

SUPPLEMENTARY INFORMATION: The following applicants have requested issuance of enhancement of survival permits to conduct certain activities with endangered species pursuant to section 10(a)(1)(A) of the Endangered Species Act of 1973, as amended (16 U.S.C. 1531 et seq.).

Applicant: Lower Brule Sioux Tribe, Department of Wildlife, Fish and Recreation, Lower Brule, South Dakota, TE-131398.

The applicant requests a permit to take black-footed ferrets (Mustela nigripes) in conjunction with recovery activities throughout the species' range for the purpose of enhancing its survival and recovery.

Applicant: Brent Andersen, The Living Planet Aquarium, Sandy, Utah, TE-131638.

The applicant requests a permit to possess bonytail (Gila elegans), Colorado pikeminnow (Ptychocheilus lucius), razorback sucker (Xyrauchen texanus), and June sucker (Chasmistes liorus) for public display and propagation in conjunction with recovery activities for the purpose of enhancing their survival and recovery.

Applicant: U.S. Forest Service, Nebraska National Forest, Bessey District, Halsey, Nebraska, TE-131639.

The applicant requests a permit to take blowout penstemon (Penstemon haydenii) in conjunction with recovery activities throughout the species' range for the purpose of enhancing its survival and recovery.

Dated: July 24, 2006.
James J. Slack,
Deputy Regional Director, Denver, Colorado.

[FR Doc. E6-13275 Filed 8-11-06; 8:45 am]

BILLING CODE 4310-55-P